DEPARTMENT OF VETERANS AFFAIRS

Notice of Renewal of Four Federal Advisory Committees

In compliance with both the Federal Advisory Committee Act (Pub. L. 92-463) and associated regulations governing the operation of federal advisory committees, the Department of Veterans Affairs (VA) gives notice that four federal advisory committees managed by VA are being renewed for a period of two years each. The name of each committee is provided below, along with a brief description of its principal objective(s).

Clinical Science Research and Development Service Cooperative Studies Scientific Evaluation Committee—The Committee's objectives are to provide expert advice on VA cooperative studies, multi-site clinical research activities, and policies related to conducting and managing these efforts. To accomplish its objectives, the Committee reviews research proposals and makes recommendations to the Director of the Clinical Science Research and Development Service and Chief Research and Development Officer on funding and administration of those proposals.

Health Services Research and Development Service Merit Review Board—The objective of the Board is to ensure the high quality and mission relevance of VA's legislatively mandated research and development program. Board members advise the Director of the Health Services Research and Development Service and the Chief Research and Development Officer on the scientific and technical merit, originality, feasibility, and mission relevance of individual research proposals. They also advise on the adequacy of protection of human and animal subjects and proposed budgets.

Joint Biomedical Laboratory Research and Development and Clinical Science Research and Development Services Scientific Merit Review Board—The objectives of the Board are to provide expert review of the scientific quality, safety, and mission relevance of investigator-initiated research proposals submitted for VA merit review consideration, and to offer advice on research program priorities and policies. The proposals to be reviewed may address research questions within the general area of biomedical and behavioral research or clinical science research. The Board specifically advises the Directors of the Biomedical Laboratory Research and Development Service and the Clinical Science Research and Development Service and the Chief Research and Development Officer on the administration of VA's intramural program.

Rehabilitation Research and Development Service Scientific Merit Review Board—The objective of the Board is to provide for the fair and equitable selection of the most meritorious research projects for support by VA research funds, and to offer advice on research program priorities and policies. The ultimate objective of the Board is to ensure that the VA Rehabilitation Research and Development program promotes functional independence and improves the quality of life for impaired and disabled veterans.

Dated: June 19, 2008.
By direction of the Secretary.
E. Philip Riggin,
Committee Management Officer.

[FR Doc. E8-14341 Filed 6-25-08; 8:45 am]

BILLING CODE 8320-01-M